FEDERAL COMMUNICATIONS COMMISSION

47 CFR Part 54

[WC Docket No. 21-450; FCC 23-62; FR ID 173798]

Affordable Connectivity Program

AGENCY: Federal Communications Commission.

ACTION: Final rule; correction.

SUMMARY: The Federal Communications Commission (FCC) is correcting a final rule that appeared in the Federal Register on September 1, 2023. The document issued a final rule to establish the enhanced discounts available for monthly broadband services provided in high-cost areas by participants in the Affordable Connectivity Program (ACP).

DATES: Effective October 2, 2023.

FOR FURTHER INFORMATION CONTACT: For further information, please contact, Travis Hahn, Attorney Advisor, Telecommunications Access Policy Division, Wireline Competition Bureau, at Travis.Hahn@fcc.gov or 202-418-7400.

SUPPLEMENTARY INFORMATION:

Correction

In FR Doc. 2023-18621, appearing on page 60347 in the Federal Register of Friday, September 1, 2023, the following corrections are made:

§ 54.1814 [Corrected]

1. On Page 60355, in the third column, in part 54, in paragraph (b), “(2)” is corrected to read as “(3)”.

Federal Communications Commission.
Marlene Dortch,
Secretary.

[FR Doc. 2023-21292 Filed 9-29-23; 8:45 am]

BILLING CODE 6712-01-P